FEDERAL COMMUNICATIONS COMMISSION

[OMB 3060-1279; FR ID 315732]

Information Collection Being Reviewed by the Federal Communications Commission

AGENCY: Federal Communications Commission.

ACTION: Notice and request for comments.

SUMMARY: As part of its continuing effort to reduce paperwork burdens, and as required by the Paperwork Reduction Act (PRA) of 1995, the Federal Communications Commission (FCC or the Commission) invites the general public and other Federal agencies to take this opportunity to comment on the following information collection. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

DATES: Written PRA comments should be submitted on or before January 20, 2026. If you anticipate that you will be submitting comments, but find it difficult to do so within the period of time allowed by this notice, you should advise the contact listed below as soon as possible.

ADDRESSES: Direct all PRA comments to Nicole Ongele, FCC, via email PRA@fcc.gov and to nicole.ongele@fcc.gov.

FOR FURTHER INFORMATION CONTACT: For additional information about the information collection, contact Nicole Ongele, (202) 418-2991.

SUPPLEMENTARY INFORMATION: The FCC may not conduct or sponsor a collection of information unless it displays a currently valid control number. No person shall be subject to any penalty for failing to comply with a collection of information subject to the PRA that does not display a valid Office of Management and Budget (OMB) control number.

OMB Control Number: 3060-1279.

Title: Connect America Fund—Alternative Connect America Cost Model (A-CAM) Voluntary Location Adjustment Process and Rural Digital Opportunity Fund (RDOF) Unreasonable Locations Process.

Form Number: N/A.

Type of Review: Revision of a currently approved collection.

Respondents: Business or other for-profit entities, Not-for-profit institutions, Individuals or Households, and State, Local or Tribal Governments.

Number of Respondents and Responses: 115 respondents; 115 responses.

Estimated Time per Response: 5-40 hours.

Frequency of Response: One-time and on occasion reporting requirements.

Obligation to Respond: Voluntary. Statutory authority for this information collection is contained in 47 U.S.C. 151, 154(i), 155(c), 214, 254.

Total Annual Burden: 4,075 hours.

Total Annual Cost: No Cost.

Needs and Uses: This information collection addresses the requirements of Eligible Locations Adjustment Process (ELAP) that the Commission used to facilitate the post-auction review of certain Connect America Fund (CAF) Phase II Auction support recipients' defined deployment obligations (and associated support), on a state-by-state basis, in situations where the number of eligible locations within a state is less than the number of funded locations. Connect America Fund, WC Docket No. 10-90, Order, 38 FCC Rcd 1135 (WCB 2023); Connect America Fund, WC Docket Nos. 10-90 et al., Order on Reconsideration, 33 FCC Rcd 1380, 1390-92, paras. 23-28 (2018) (Phase II Auction Reconsideration Order); Connect America Fund, WC Docket No. 10-90, Order, 34 FCC Rcd 10395 (WCB 2019) (adopting rules and requirements necessary to implement this process, consistent with the parameters set forth in the Phase II Auction Reconsideration Order and prior Commission guidance for adjusting defined deployment obligations) (ELAP Order). CAF Phase II Auction support recipients' participation in this process was voluntary. On February 9, 2023, the Wireline Competition Bureau (WCB) released an order determining that each ELAP participant had met its burden of proof and modifying the obligations and support of each of these participants, on a state-by-state basis. Connect America Fund, WC Docket No. 10-90, Order, 38 FCC Rcd 1135 (WCB 2023) (ELAP Resolution Order). Accordingly, the Commission proposes to eliminate the information collection requirements related to ELAP now that ELAP has ended.

This information collection also addresses the requirements of a location adjustment process that the Commission adopted for Revised A-CAM I and A-CAM II carriers. The Commission proposes to add information collection requirements for this process. Specifically, the Commission decided that A-CAM support recipients that discover there is a widely divergent number of locations in their funded census blocks as compared to the model-estimated number of locations should have the opportunity to seek an adjustment to modify their deployment obligations. The Commission delegated to the WCB the authority to adjust the number of funded locations downward and reduce associated funding levels. Connect America Fund et al., WC Docket No. 10-90 et al., Report and Order, Order and Order on Reconsideration, and Further Notice of Proposed Rulemaking, 31 FCC Rcd 3087 (2016) (2016 Rate-of-Return Reform Order).

In the High-Cost Fabric Order, WCB adopted procedures to implement this process, including permitting Revised A-CAM I and A-CAM II carriers that have fewer locations in eligible 2010 census blocks than the carrier has supported locations pursuant to its A-CAM authorization to seek a voluntary downward adjustment in their location totals by using the Broadband Serviceable Location Fabric (Fabric) to demonstrate the actual number of locations in their service areas. The adjustment will be based on the version of the Fabric used for the Broadband Data Collection (BDC) collection as of June 30, 2026, which is expected to be released to licensees around June 2026, and carriers will have a one-time window to request such an adjustment shortly after this version of the Fabric is made available to licensees. Revised A-CAM I and A-CAM II carriers must request a downward adjustment in WC Docket No. 10-90 and can incorporate Fabric by reference when requesting this adjustment by certifying that they have reviewed the Fabric and there are fewer locations identified in the relevant version of the Fabric in the carriers' service area than the carrier's model-estimated locations total. A carrier can demonstrate that it has met the preponderance of the evidence standard by referencing the Fabric data and WCB will use the A-CAM to determine the adjusted location obligations and support amounts for such carriers. Connect America Fund et al., WC Docket No. 10-90 et al., DA 25-32 (WCB Jan. 10, 2025) (High-Cost Fabric Order).

Moreover, the Commission proposes to add information collection requirements for a process to permit certain RDOF carriers to demonstrate that locations within their supported service area are unreasonable to serve. To account for disparities between locations on the ground and those estimated by the Connect America Cost Model and to acknowledge its confidence that the Commission would have access to more accurate location data in the next few years, the Commission directed WCB to seek comment on updated location data and publish revised location counts no later than the end of service milestone year six for RDOF carriers. The Commission also adopted a framework for how service milestones would be revised in various circumstances after WCB had published more accurate location counts. In areas where there are more locations than locations estimated by the CAM, a RDOF carrier has until the end of the eighth calendar year to offer service to the additional locations. Such a RDOF carrier may seek to have its new location count adjusted to exclude additional locations, beyond the number identified by the CAM, that are ineligible, unreasonable to deploy to, or are part of a development that is newly built after the sixth year of support for which the cost and/or time to deploy before the end of the support term would be unreasonable. Connect America Fund et al., WC Docket No. 19-126 et al., Report and Order, 35 FCC Rcd 686, 709-712, paras. 45-55 (2020).

In the High-Cost Fabric Order, WCB adopted procedures to implement this process. Specifically, once WCB has announced revised location totals for RDOF carriers in 2027, carriers will have six months to submit any requests to remove locations from their revised locations lists. WCB will set up a data collection system in which carriers should submit a request identifying the locations they claim are unreasonable to serve (i.e., Fabric Location ID), the specific reasons why each location is unreasonable to serve, and evidence to support their claims. The Bureau may then request additional information from the carrier and other stakeholders to verify and assess the carrier's claims. WCB may request additional information to assess a carrier's claim that a location is unreasonable to serve, and a failure to submit this additional information would result in the Bureau finding that the carrier has not demonstrated that it would be unreasonable to serve the location. We therefore propose to revise this information collection.

Federal Communications Commission.
Marlene Dortch,
Secretary, Office of the Secretary.

[FR Doc. 2025-20625 Filed 11-20-25; 8:45 am]

BILLING CODE 6712-01-P